DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Ombudsman Survey.

Agency Approval Number: 0651—New.

Type of Request: Revision of a currently approved collection.

Burden: 91.67 hours annually.

Number of Respondents: 1,100 responses per year.

Average Hours per Response: The USPTO estimates that it will take the public approximately 5 minutes (0.083 hours) to prepare the appropriate form or documents and submit to the USPTO.

Needs and Uses: The objectives of the Patents Ombudsman Program are: (1) To facilitate complaint-handling for pro se applicants and applicant's representatives whose applications have stalled in the examination process; (2) to track complaints to ensure each is handled within ten business days; (3) to provide feedback and early warning alerts to USPTO management regarding training needs based on complaint trends; and (4) to build a database of frequently asked questions accessible to the public that give commonly seen problems and effective resolutions. The USPTO Ombudsman survey is a key component of the process evaluation, providing a program monitoring system and identifying potential opportunities for Ombudsman Program enhancement. This survey is being conducted by the USPTO's Ombudsman Program and will be developed, administered, and summarized by USPTO personnel.

Affected Public: Businesses or other for-profit organizations.

Frequency: On occasion.

Respondent's Obligation: Voluntary.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651—New copy request” in the subject line of the message.

• Mail: Marcie Lovett, Records Management Division Director, Office of the Chief Information Officer, United States Patent and Trademark Office, P.O. Box 1450, Alexandria, VA 22313-1450.

Written comments and recommendations for the proposed information collection should be sent on or before March 2, 2015 to Nicholas A. Fraser, OMB Desk Officer, via email to Nicholas_A._Fraser@omb.eop.gov, or by fax to 202-395-5167, marked to the attention of Nicholas A. Fraser.

Dated: January 23, 2015.
Marcie Lovett,
Records Management Division Director, USPTO, Office of the Chief Information Officer.

[FR Doc. 2015-01684 Filed 1-28-15; 8:45 am]

BILLING CODE 3510-16-P